DEPARTMENT OF JUSTICE

Antitrust Division

Notice Pursuant to the National Cooperative Research and Production Act of 1993—DVD Control Association

Notice is hereby given that, on December 9, 2010, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, City Brand International Limited, Kwun Tong, Kowloon, HONG KONG-CHINA; and Crystal Ton 2 Ltd., Sofia, BULGARIA, have been added as parties to this venture.

Also, Argosy Research Inc., Hsinchu, TAIWAN; Bcom Electronics Inc., Taipei, TAIWAN; Commtech Technology Macao Commercial Offshore Ltd., Macau, PEOPLE'S REPUBLIC OF CHINA; Ecom Inc., Tokyo, JAPAN; Gowell Electronic Limited, Guangdon, PEOPLE'S REPUBLIC OF CHINA; Hong Kong ASA Multimedia Co., Ltd., Kowloon, HONG KONG-CHINA; Hyo Seong Techno Corporation, Seoul, REPUBLIC OF KOREA; Klipsch Group, Inc., Indianapolis, IN; Linn Products Limited, Glasgow, Scotland, UNITED KINGDOM; MAE Diskettes SRL, Casoria, ITALY; MOD Systems Inc., Seattle, WA; NHK Media Technology (formerly known as NHK Technical Services), Tokyo, JAPAN; Optical Disc Solutions, Inc., Richmond, IN; Optical Disc Solutions SRL, Bucharest, ROMANIA; Ritek Corporation, Hsin Chu, TAIWAN; Sanyo Electric Co., Ltd., Osaka, JAPAN; Skydigital Inc., Yongsan-gu, Seoul, REPUBLIC OF KOREA; Skyworth (Group) Co., Ltd., Quarry Bay, HONG KONG-CHINA; The Refined Industry Co., Ltd., Shatin, HONG KONG-CHINA; and Vulcan Inc., Seattle, WA, have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on August 31, 2010. A notice was published in the Federal Register pursuant to Section 6(b) of the Act on October 12, 2010 (75 FR 62569).

Patricia A. Brink,
Director of Civil Enforcement, Antitrust Division.

[FR Doc. 2011-77 Filed 1-7-11; 8:45 am]

BILLING CODE 4410-11-M